DEPARTMENT OF ENERGY

Federal Energy Regulatory Commission

Combined Notice of Filings #1

Take notice that the Commission received the following electric rate filings:

Docket Numbers: ER18-1709-001.

Applicants: Stoneray Power Partners, LLC.

Description: Notice of Change in Status of Stoneray Power Partners, LLC.

Filed Date: 3/22/19.

Accession Number: 20190322-5094.

Comments Due: 5 p.m. ET 4/12/19.

Docket Numbers: ER19-1405-000.

Applicants: Precept Power LLC.

Description: Baseline eTariff Filing: INITIAL TARIFF, WAIVERS AND BLANKET AUTHORITY to be effective 5/1/2019.

Filed Date: 3/22/19.

Accession Number: 20190322-5042.

Comments Due: 5 p.m. ET 4/12/19.

Docket Numbers: ER19-1406-000.

Applicants: Midcontinent Independent System Operator, Inc.

Description: § 205(d) Rate Filing: 2019-03-22_SA 3282 POI-Hill Structure Replacement MPFCA (J475 J530) to be effective 3/8/2019.

Filed Date: 3/22/19.

Accession Number: 20190322-5044.

Comments Due: 5 p.m. ET 4/12/19.

Docket Numbers: ER19-1407-000.

Applicants: Midcontinent Independent System Operator, Inc.

Description: § 205(d) Rate Filing: 2019-03-22_SA 3283 Franklin-Wall Lake 161 kV Line Upgrade MPFCA (J498 J535) to be effective 3/8/2019.

Filed Date: 3/22/19.

Accession Number: 20190322-5063.

Comments Due: 5 p.m. ET 4/12/19.

Docket Numbers: ER19-1408-000.

Applicants: Midcontinent Independent System Operator, Inc., Great River Energy.

Description: § 205(d) Rate Filing: 2019-03-22_SA 3292 GRE- DLP TIA (Frog Creek Bypass Switch) to be effective 3/1/2019.

Filed Date: 3/22/19.

Accession Number: 20190322-5070.

Comments Due: 5 p.m. ET 4/12/19.

Docket Numbers: ER19-1409-000.

Applicants: Birdsboro Power LLC.

Description: Baseline eTariff Filing: Reactive Power Tariff Application to be effective 5/1/2019.

Filed Date: 3/22/19.

Accession Number: 20190322-5089.

Comments Due: 5 p.m. ET 4/12/19.

Docket Numbers: ER19-1410-000.

Applicants: Mid-Atlantic Interstate Transmission, LLC, PJM Interconnection, L.L.C.

Description: § 205(d) Rate Filing: MAIT submits OIA SA Nos. 4577 and 4578 to be effective 5/21/2019.

Filed Date: 3/22/19.

Accession Number: 20190322-5100.

Comments Due: 5 p.m. ET 4/12/19.

Docket Numbers: ER19-1411-000.

Applicants: GenOn Bowline, LLC.

Description: § 205(d) Rate Filing: Notice of Succession and Revisions to MBR Tariff and Request for Waivers to be effective 3/11/2019.

Filed Date: 3/22/19.

Accession Number: 20190322-5104.

Comments Due: 5 p.m. ET 4/12/19.

Docket Numbers: ER19-1412-000.

Applicants: GenOn Canal, LLC.

Description: § 205(d) Rate Filing: Notice of Succession and Revisions to MBR Tariff and Request for Waivers to be effective 3/11/2019.

Filed Date: 3/22/19.

Accession Number: 20190322-5105.

Comments Due: 5 p.m. ET 4/12/19.

Docket Numbers: ER19-1413-000.

Applicants: GenOn Chalk Point, LLC.

Description: § 205(d) Rate Filing: Notice of Succession and Revisions to MBR Tariff and Request for Waivers to be effective 3/11/2019.

Filed Date: 3/22/19.

Accession Number: 20190322-5106.

Comments Due: 5 p.m. ET 4/12/19.

Docket Numbers: ER19-1414-000.

Applicants: GenOn REMA, LLC.

Description: § 205(d) Rate Filing: Notice of Succession and Revisions to MBR Tariff and Request for Waivers to be effective 3/11/2019.

Filed Date: 3/22/19.

Accession Number: 20190322-5109.

Comments Due: 5 p.m. ET 4/12/19.

Docket Numbers: ER19-1415-000.

Applicants: GenOn California South, LP.

Description: § 205(d) Rate Filing: Notice of Succession and Revisions to MBR Tariff and Request for Waivers to be effective 3/11/2019.

Filed Date: 3/22/19.

Accession Number: 20190322-5110.

Comments Due: 5 p.m. ET 4/12/19.

Docket Numbers: ER19-1416-000.

Applicants: GenOn Florida, LP.

Description: § 205(d) Rate Filing: Notice of Succession and Revisions to MBR Tariff and Request for Waivers to be effective 3/11/2019.

Filed Date: 3/22/19.

Accession Number: 20190322-5111.

Comments Due: 5 p.m. ET 4/12/19.

Docket Numbers: ER19-1418-000.

Applicants: GenOn Wholesale Generation, LP.

Description: § 205(d) Rate Filing: Notice of Succession and Revisions to MBR Tariff and Request for Waivers to be effective 3/11/2019.

Filed Date: 3/22/19.

Accession Number: 20190322-5113.

Comments Due: 5 p.m. ET 4/12/19.

Docket Numbers: ER19-1419-000.

Applicants: PacifiCorp.

Description: § 205(d) Rate Filing: OATT Revised Attachment H-1 (Rev Depreciation Rates 2019) to be effective 6/1/2019.

Filed Date: 3/22/19.

Accession Number: 20190322-5114.

Comments Due: 5 p.m. ET 4/12/19.

Docket Numbers: ER19-1420-000.

Applicants: California Independent System Operator Corporation.

Description: § 205(d) Rate Filing: 2019-03-22 Gridforce Dynamic Transfer Balancing Authority Operating Agreement to be effective 5/22/2019.

Filed Date: 3/22/19.

Accession Number: 20190322-5117.

Comments Due: 5 p.m. ET 4/12/19.

Docket Numbers: ER19-1421-000.

Applicants: Duke Energy Indiana, LLC.

Description: § 205(d) Rate Filing: 2019 Annual Reconciliation Filing to be effective 7/1/2018.

Filed Date: 3/22/19.

Accession Number: 20190322-5143.

Comments Due: 5 p.m. ET 4/12/19.

Docket Numbers: ER19-1422-000.

Applicants: PJM Interconnection, L.L.C.

Description: Tariff Cancellation: Notice of Cancellation of WMPA SA No. 4360; Queue No. AA1-080 to be effective 5/2/2019.

Filed Date: 3/22/19.

Accession Number: 20190322-5144.

Comments Due: 5 p.m. ET 4/12/19.

Take notice that the Commission received the following public utility holding company filings:

Docket Numbers: PH19-8-000.

Applicants: Pacolet Milliken Enterprises, LLC.

Description: Pacolet Milliken Enterprises, LLC submits FERC 65-B Waiver Notification.

Filed Date: 3/22/19.

Accession Number: 20190322-5136.

Comments Due: 5 p.m. ET 4/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2019.
Nathaniel J. Davis, Sr.,
Deputy Secretary.

[FR Doc. 2019-06121 Filed 3-28-19; 8:45 am]

BILLING CODE 6717-01-P